DEPARTMENT OF HEALTH AND HUMAN SERVICES

Civil Society Listening Session on the U.S. Domestic Response to Female Genital Mutilation/Cutting (FGM/C)

Name: Civil Society Listening Session on the U.S. Domestic Response to FGM/C.

Date and Time: October 2, 2014, 2:30 p.m.-4:30 p.m.

Place: Hubert H. Humphrey Building, 200 Independence Avenue SW., Room 705A, Washington, DC 20201.

Attendance: Open, but RSVP required to OGA.RSVP@hhs.gov. If you are a foreign national, please note this in the subject line of your RSVP, and our office will contact you for additional biographical details to process your access to the meeting site. RSVP's must be received no later than Monday, September 22, 2014.

Purpose: The U.S. Department of Health and Human Services (HHS) will host a civil society listening session on the U.S. domestic response to FGM/C. The consultation is an opportunity for the U.S. government, including representatives from the White House and other U.S. federal agencies, to hear from members of civil society who are working to address FGM/C domestically (in the United States). More specifically, the session will seek to:

• Identify gaps in knowledge

• Identify gaps in services for survivors and girls at risk

• Identify lessons learned based on previous efforts

• Share success stories and best practices at the community level

• Suggest effective outreach strategies

• Make connections and identify opportunities for increased collaboration and next steps

Agenda: The session will be structured around four agenda items: (1) What is working, (2) lessons learned, (3) gaps in knowledge, support and services, and (4) opportunities for further collaboration between the U.S. government and civil society. Participants will be invited to speak for no more than three minutes on each topic. At the end of each agenda item, representatives from relevant federal agencies will have the opportunity to briefly respond and ask follow-up questions.

Participants: All individuals working on FGM/C in the United States are invited to attend, including members of:

• Public health and advocacy groups;

• Minority health organizations;

• Refugee and immigrant groups;

• Women's research, service and advocacy groups;

• Human rights groups;

• Faith-based groups; and

• Academic and scientific organizations.

Written comments are welcome and encouraged, even for those who are planning to attend in person. These comments should also be sent to OGA.RSVP@hhs.gov.

Dated: September 9, 2014.
Jimmy Kolker,
Assistant Secretary, Office of Global Affairs.

[FR Doc. 2014-22574 Filed 9-19-14; 11:15 am]

BILLING CODE 4150-38-P